DEPARTMENT OF DEFENSE

Office of the Secretary

[Transmittal Nos. 12-22]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 12-22 with attached transmittal, and policy justification.

Dated: August 27, 2012.
Aaron Siegel,
Alternate OSD Federal Register Liaison Officer, Department of Defense.

BILLING CODE 5001-06-P

Transmittal No. 12-22

Notice of Proposed Issuance of Letter of Offer Pursuant to Section 36(b)(1) of the Arms Export Control Act, as amended

(i) Prospective Purchaser: Kingdom of Saudi Arabia (KSA)

(ii) Total Estimated Value:

Major Defense Equipment* | $ 2 million.
Other | 255 million.
Total | 257 million.
* as defined in 47(6) of the Arms Export Control Act.

(iii) Description and Quantity or Quantities of Articles or Services under Consideration for Purchase: Ten Link-16 capable data link systems and Intelligence, Surveillance, and Reconnaissance (ISR) suites for four KSA-provided King Air 350ER aircraft and associated ground support, with an option to procure, via Foreign Military Sales, an additional four King Air 350ER aircraft with enhanced PT6A-67A engines and spare parts equipped with the same ISR suites. The ISR suites include a Com-Nav Surveillance/Air Traffic Management cockpit, RF-7800M-MP High Frequency Radios with encryption, AN/ARC-210 Very High Frequency/Ultra High Frequency/Satellite Communication Transceiver Radios with Have Quick II and encryption, a High Speed Data Link, an AN/APX-114/119 Identification Friend or Foe Transponder, Embedded Global Positioning System/Inertial Navigations Systems (GPS/INS) with a Selective Availability Anti-spoofing Module (SAASM), AN/AAR-60 Infrared Missile Warning and AN/ALE-47 Countermeasures System, Electro-Optical Sensor, SIGINT System, Synthetic Aperture Radar. Also included are Ground Stations, Training Aids, C4I Integration, aircraft modifications, spare and repair parts, support equipment, publications and technical data, personnel training and training equipment, aircraft ferry, U.S. Government and contractor technical, engineering, and logistics support services, and other related elements of logistics support.

(iv) Military Department: Air Force (QBP)

(v) Prior Related Cases, if any: None

(vi) Sales Commission, Fee, etc., Paid, Offered, or Agreed to be Paid: none

(vii) Sensitivity of Technology Contained in the Defense Article or Defense Services Proposed to be Sold: See Annex attached

(viii) Date Report Delivered to Congress: 9 Aug 2012

POLICY JUSTIFICATION

Kingdom of Saudi Arabia—King Air 350ER Intelligence, Surveillance, and Reconnaissance (ISR) Aircraft and Support

The Government of the Kingdom of Saudi Arabia (KSA) has requested a possible sale of ten Link-16 capable data link systems and Intelligence, Surveillance, and Reconnaissance (ISR) suites for four KSA-provided King Air 350ER aircraft and associated ground support, with an option to procure, via a Foreign Military Sales, an additional four King Air 350ER aircraft with enhanced PT6A-67A engines and spare parts equipped with the same ISR suites. The ISR suites include a Com-Nav Surveillance/Air Traffic Management cockpit, RF-7800M-MP High Frequency Radios with encryption, AN/ARC-210 Very High Frequency/Ultra High Frequency/Satellite Communication Transceiver Radios with Have Quick II and encryption, a High Speed Data Link, an AN/APX-114/119 Identification Friend or Foe Transponder, Embedded Global Positioning System/Inertial Navigations Systems (GPS/INS) with a Selective Availability Anti-spoofing Module (SAASM), AN/AAR-60 Infrared Missile Warning and AN/ALE-47 Countermeasures System, Electro-Optical Sensor, SIGINT System, Synthetic Aperture Radar. Also included are Ground Stations, Training Aids, C4I Integration, aircraft modifications, spare and repair parts, support equipment, publications and technical data, personnel training and training equipment, aircraft ferry, U.S. Government and contractor technical, engineering, and logistics support services, and other related elements of logistics support. The estimated cost is $257 million.

This proposed sale of airborne ISR assets to KSA will contribute to the foreign policy and national security of the United States by helping to improve the security of a friendly country that has been, and continues to be, an important force for political stability and economic progress in the Middle East.

The RSAF needs additional ISR capability to provide persistent, real-time route surveillance, facility, infrastructure and border security, counter-terrorism and smuggling interdiction, support for naval and coastal operations, internal defense and search and rescue operations. Currently, the RSAF's RE-3 aircraft is in depot maintenance and will not be available until after 2015. In the interim, the King AIR 350ER-ISR aircraft will allow the RSAF to perform a portion of the RE-3 mission. All systems will be compatible with and will continue to supplement the capabilities of the RSAF RE-3 aircraft. The KSA will have no difficulties absorbing and using these King Air ISR aircraft.

The proposed sale of this equipment and support will not alter the basic military balance in the region.

The prime contractors will be L-3 Communications, Mission Integration Division in Greenville, Texas; Hawker Beechcraft in Wichita, Kansas; Raytheon in Aberdeen Proving Grounds, Maryland; Rockwell Collins in Cedar Rapids, Iowa; Harris in Rochester, New York; ATK in Ridgecrest, California; BAE Systems in Austin, Texas; and VIASAT in Carlsbad, California. There are no known offset agreements proposed in connection with this potential sale.

Implementation of this proposed sale will involve annual Program Management Reviews in Saudi Arabia. Estimated U.S. participation will include up to six USAF personnel and four contractor personnel for a period of up to six weeks per year. There will be approximately six contractors in Saudi Arabia providing technical assistance on a full-time basis until these systems are delivered and integrated into the operational units.

There will be no adverse impact on U.S. defense readiness as a result of this proposed sale.

Transmittal No. 12-22

Notice of Proposed Issuance of Letter of Offer Pursuant to Section 36(b)(1) of the Arms Export Control Act

Annex—Item No. vii

(vii) Sensitivity of Technology

1. This sale will involve the release of classified and sensitive technology to the Kingdom of Saudi Arabia (KSA). The King Air 350ER-ISR system will be classified up to Secret.

2. King Air 350ER: The King Air 350ER Intelligence, Surveillance, and Reconnaissance (ISR) aircraft is a specifically modified B350ER capable of operating in austere environments while providing real-time ISR. It is equipped with an integrated electro-optical and infrared (EO/IR), Eye-safe Laser Range Finder and Laser Pointer sensor suite which gives it a day/night ISR capability. Additionally, the aircraft will have a signal intercept system capable of searching, direction finding (geo-locating), collection, and on-board analysis of simple signals of interest in the very high frequency (VHF) and ultra high frequency (UHF) broadcast bands. It will also have synthetic aperture radar (SAR) to provide spot and strip ground mapping along with ground moving target indicator (GMTI) modes. It will also have two onboard workstations that will control the intercept system while one workstation will control the EO/IR system. The system will provide voice and data communication with personnel on the ground to share collected data (more details on specific equipment listed below). Aircraft hardware and software are Unclassified; technical data and documentation to be provided are Unclassified.

3. Signals Intelligence Collection and Processing System: This will be a tactical signals intelligence (SIGINT) intercept system that will search, direction-find, geo-locate, collect, and display the relevant information to two operators for analysis and recording. Hardware, software, technical data and documentation provided could be classified up to Secret.

4. Electro-Optical Infrared System (Wescam MX-15 or suitable substitute): This is a gyro-stabilized, multi-spectral, multi-field of view EO/IR system. The system provides color daylight TV and night time IR video with a laser range finder and laser pointer through use of an externally mounted turret sensor unit and internally mounted sensor control. Video imagery is displayed in the aircraft real time and may be recorded for subsequent ground analysis. Hardware and technical data and documentation to be provided are Unclassified.

5. Synthetic Aperture Radar (Selex Galileo Picosar or suitable substitute): This is an active electronically scanned array (AESA) radar providing strip and spotlight SAR imaging and ground moving target indicator (GMTI) capability for all-weather and wide range surveillance. Hardware and technical data and documentation to be provided are Unclassified.

6. Link 16: This is a command, control, communications, and intelligence (C3I) system incorporating high-capacity, jam-resistant, digital communication links for exchange of near real-time tactical information, including both data and voice, among air, ground, and sea elements. The Link 16 hardware, publications, performance specifications, operational capability, parameters, vulnerabilities to countermeasures, and software documentation are classified Confidential. The classified information to be provided is necessary for the operation, maintenance, and repair (through intermediate level) of the data link terminal, installed systems, and related software.

7. Remote Operation Video Enhanced Receive (ROVER): This system allows personnel on the ground to receive the generated video and overlays, but not aircraft overlays. This system is Unclassified and has no critical technology.

8. Ultra High Frequency/Very High Frequency (UHF/VHF) Radios (AN/ARC-210): The ARC 210 [RT-1851A (C)] UHF/VHF secure radios with HAVE QUICK II are voice communications radio systems that can operate in either normal, secure, and/or jam-resistant modes. They can employ cryptographic technology that is classified Secret. Classified elements include operating characteristics, parameters, technical data, and keying material.

9. UHF/VHF Air-to-Ground Radio (RF-7800M-MP): This is a wideband air-to-ground tactical radio incorporating encrypted voice and data communication. Classified elements, up to Secret, include operating characteristics, parameters, technical data, and keying material.

10. Identification Friend or Foe transponder interrogator system (AN/APX-114/119): This system is Unclassified unless encrypted Mode 4 operational evaluator parameters, which are Secret, are loaded into the equipment.

11. Inertial Navigation/Global Positioning System (INS/GPS) (LN-100 or H764G): This is a highly accurate inertial navigation system with an embedded GPS for blended GPS/INS, free-inertial, and GPS only navigation solutions. Classified elements up to Secret include a Selective Availability Anti-spoofing Module (SAASM) for decryption of precision GPS signals.

12. Counter-Measures Dispensing System (CMDS) (AN/ALE-47): The CMDS is an integrated, threat-adaptive, software-programmable dispensing system capable of dispensing chaff, flares, and active radio frequency expendables. The threats countered by the CMDS include radar-directed anti-aircraft artillery (AAA), radar command-guided missiles, radar homing-guided missiles, and infrared (IR) guided missiles. The system is internally mounted and may be operated as a stand-alone system or may be integrated with other on-board EW and avionics systems. The AN/ALE-47 uses threat data received over the aircraft interfaces to assess the threat situation and to determine a response. Expendable routines tailored to the immediate aircraft and threat environment may be dispensed using one of four operational modes. The hardware is Confidential. The software when loaded into the ALE-47 is classified Confidential. Technical data and documentation to be provided are Unclassified.

13. Missile Launch Detection System (MLDS) (AN/AAR-60): The MLDS is a passive, true imaging sensor device that is optimized to detect the radiation signature of a threat missile's exhaust plume within the Ultra-Violet (UV) solar blind spectral band. Functionally, the architecture detects incoming missile threats and indicates their direction of arrival with the ‘maximum' warning time. The system is further noted as featuring inherently high-spatial resolution, advanced temporal processing, a very high declaration rate, and the virtual elimination of false alarm rates, fast threat detection and the automatic initiation of appropriate countermeasures. Physically, a typical application comprises four to six self-contained detector units each of which provides full signal processing. Hardware, software, and technical data and documentation to be provided are Unclassified.

14. Additional sensitive areas include operating manuals and maintenance technical orders containing performance information, operating and test procedures, and other information related to support operations and repair. The hardware, software, and data identified are classified to protect vulnerabilities, design and performance parameters and other similar critical information.

15. If a technologically advanced adversary were to obtain knowledge of the specific hardware and software, the information could be used to develop countermeasures, which might reduce weapon system effectiveness or be used in the development of a system with similar or advanced capabilities.

[FR Doc. 2012-21451 Filed 8-30-12; 8:45 am]

BILLING CODE 5001-06-P